DEPARTMENT OF JUSTICE

Drug Enforcement Administration

Danilo Abud-Sanchez, M.D.; Revocation of Registration

On August 5, 1999, the Deputy Assistant Administrator, Office of Diversion Control, Drug Enforcement Administration (DEA) issued an Order to Show Cause to Danilo Abud-Sanchez, M.D., of Paramount, California, notifying him of an opportunity to show cause as to why DEA should not revoke his DEA Certificate of Registration BA3042657 pursuant to 21 U.S.C. 824(a)(3), and deny any pending applications for renewal of his registration pursuant to 21 U.S.C. 823(f), for reason that he is not currently authorized to handle controlled substances in the State of California. The order also notified Dr. Abud-Sanchez that should no request for a hearing be filed within 30 days, his hearing right would be deemed waived.

DEA first sent the Order to Show Cause to Dr. Abud-Sanchez at his registered location, and it was returned unclaimed. Next, the Order to Show Cause was sent to Dr. Abud-Sanchez at a residential address, and it too was returned unclaimed. DEA investigators then contacted Dr. Abud-Sanchez' legal counsel who indicated that he would accept service of the Order to Show Cause on behalf of Dr. Abud-Sanchez. The Order to Show Cause was sent to Dr. Abud-Sanchez' legal counsel and DEA received a signed receipt indicating that the Order to Show Cause was received on October 25, 1999.

No request for a hearing or any other reply was received by DEA from Dr. Abud-Sanchez or anyone purporting to represent him in this matter. Therefore, the Deputy Administrator, finding that (1) 30 days have passed since the receipt of the Order to Show Cause, and (2) no request for a hearing having been received, concludes that Dr. Abud-Sanchez is deemed to have waived his hearing right. After considering material from the investigative file in this matter, the Deputy Administrator now enters his final order without a hearing pursuant to 21 CFR 1301.43(d) and (e) and 1301.46.

The Deputy Administrator finds that Dr. Abud-Sanchez currently possesses DEA Certificate of Registration BA3042657 issued to him in California. The Deputy Administrator further finds that effective February 17, 1997, the Medical Board of California revoked Dr. Abud-Sanchez' license to practice medicine. Dr. Abud-Sanchez did not present any evidence that his medical license has since been reinstated in California and there is no such evidence in the investigative file. Therefore, the Deputy Administrator finds that Dr. Abud-Sanchez is not currently authorized to practice medicine in the State of California and as a result, it is reasonable to infer that he is also not authorized to handle controlled substances in that state.

The DEA does not have the statutory authority under the Controlled Substances Act to issue or maintain a registration if the applicant or registrant is without state authority to handle controlled substances in the state in which he conducts his business. See U.S.C. 802(21), 832(f) and 824(a)(3). This prerequisite had been consistencly upheld. See Romeo. J. Perez, M.D., 62 FR 16,193 (1997); Demetris A. Green, M.D., 61 FR 70,728 (1996); Domminick A. Ricci, M.D., 58 FR 51,104 (1993).

Here it is clear that Dr. Abud-Sanchez is not currently authorized to handle controlled substances in the State of California. As a result, he is not entitled to a DEA registration in that state.

Accordingly, the Deputy Administrator of the Drug Enforcement Administration, pursuant to the authority vested in him by 21 U.S.C. 823 and 824 and 28 CFR 0.100(b) and 0.104, hereby orders that DEA Certificate of Registration BA3042657, previously issued to Danilo Abud-Sanchez, M.D., be, and it hereby is, revoked. The Deputy Administrator further orders that any pending applications for the renewal of such registration, be, and they hereby are, denied. This order is effective June 12, 2000.

Dated: May 4, 2000.
Donnie R. Marshall,
Deputy Administrator.

[FR Doc. 00-11887 Filed 5-11-00; 8:45 am]

BILLING CODE 4410-09-M